DEPARTMENT OF LABOR

Employment and Training Administration

[TA-W-64,421]

Pacific Automotive, Components and Systems International, Including On-Site Leased Workers from Quality Temporary Service, Imlay City, Michigan; Amended Certification Regarding Eligibility To Apply for Worker Adjustment Assistance and Alternative Trade Adjustment Assistance

In accordance with Section 223 of the Trade Act of 1974, as amended (19 U.S.C. 2273), the Department of Labor issued a Certification of Eligibility to Apply for Worker Adjustment Assistance and Alternative Trade Adjustment Assistance on February 18, 2009 applicable to workers of Pacific Automotive, Components and Systems International, Imlay City, Michigan. The notice was published in the Federal Register on March 10, 2009 (74 FR 10303).

At the request of the State agency, the Department reviewed the certification for workers of the subject firm. The workers are engaged in the production of seat bolsters, armrests and door bolsters for the auto industry.

The intent of the Department's certification is to include all secondarily affected workers employed at Pacific Automotive Components and Systems International, Imlay City, Michigan.

New information shows that workers leased from Quality Temporary Service were employed on-site at the Imlay City, Michigan location of Pacific Automotive Components and Systems International. The Department has determined that these workers were sufficiently under the control of the subject firm to be considered leased workers.

Based on these findings, the Department is amending this certification to include leased workers from Quality Temporary Service working on-site at the Imlay City, Michigan location of the subject firm.

The amended notice applicable to TA-W-64,421 is hereby issued as follows:

“All workers of Pacific Automotive Components and Systems International, Imlay City, Michigan, including on-site leased workers from Quality Temporary Service, Imlay City, Michigan, who became totally or partially separated from employment on or after November 12, 2007, through February 18, 2011, are eligible to apply for trade adjustment assistance under Section 223 of the Trade Act of 1974, and are also eligible to apply for alternative trade adjustment assistance under Section 246 of the Trade Act of 1974.”

Signed at Washington, DC this 6th day of May 2009.
Linda G. Poole,
Certifying Officer, Division of Trade Adjustment Assistance.

[FR Doc. E9-14068 Filed 6-15-09; 8:45 am]

BILLING CODE 4510-FN-P